DEPARTMENT OF ENERGY

Federal Energy Regulatory Commission

[Project No. 2411-025]

STS Hydropower, Ltd., Dan River, Inc., and City of Danville, VA; Notice of Application for Partial Transfer of License, and Soliciting Comments and Motions To Intervene

On December 5, 2012, Jeoffrey L. Burtch, as Chapter 7 Bankruptcy Trustee for Dan River, Inc. and STS Hydropower, Ltd (co-licensees) transferors and the City of Danville, Virginia transferee filed an application for the partial transfer of the license for the Schoolfield Hydroelectric Project, FERC No. 2411, located on the Dan River in Pittsylvania County, Virginia.

Applicants seek Commission approval to partially transfer the license for the Schoolfield Hydroelectric Project from Dan River, Inc. and STS Hydropower, Ltd. to STS Hydropower, Ltd. and the City of Danville, Virginia, as co-licensees.

Applicants' Contact: For Chapter 7 Bankruptcy Trustee for Dan River, Inc.: Mr. Jeoffrey L. Burtch, Chapter 7 Bankruptcy Panel Trustee, P.O. Box 549, Wilmington, DE 19899-0549, Mr. Adam Singer, Esq., Cooch and Taylor, P.A., The Brandywine Building, 1000 West Street, 10th Floor, Wilmington, DE 19801, Phone (302) 984-3830. For City of Danville, Virginia: Mr. Joe King, City Manager and Mr. Clarke Whitfield, City Attorney, P.O. Box 3300, Danville, VA 24543, Phone (434) 799-5100 and (434) 799-5122, respectively.

FERC Contact: Patricia W. Gillis (202) 502-8735, patricia.gillis@ferc.gov.

Deadline for filing comments and motions to intervene: 15 days from the issuance of this notice by the Commission. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-2411) in the docket number field to access the document. For assistance, call toll-free 1-866-208-3372.

Dated: December 13, 2012.
Kimberly D. Bose,
Secretary.

[FR Doc. 2012-30721 Filed 12-20-12; 8:45 am]

BILLING CODE 6717-01-P